DEPARTMENT OF AGRICULTURE

Commodity Credit Corporation

Request for Reinstatement and Revision of a Previously Approved Information Collection

AGENCY: Commodity Credit Corporation, USDA.

ACTION: Notice and request for comments.

SUMMARY: In accordance with the Paperwork Reduction Act of 1995, this notice announces the intention of the Commodity Credit Corporation (CCC) and the Farm Service Agency (FSA) to request the reinstatement and revision of a previously approved information collection. This information is used by CCC and FSA to issue payments or other disbursements. The program under which payments are made are authorized by the Agricultural Act of 1970, the Commodity Credit Corporation Charter Act, the Food Security Act of 1985, and the Federal Agriculture Improvement and Reform Act of 1996 (1996 Act).

DATES: Comments on this notice must be received on or before February 12, 2001 to be assured consideration.

ADDITIONAL INFORMATION OR COMMENTS: Contact David Tidwell, Agricultural Program Specialist, Production, Emergencies, and Compliance Division, USDA, FSA, STOP 0517, 1400 Independence Avenue, SW., Washington, DC 20250-0517, telephone (202) 720-4542.

SUPPLEMENTARY INFORMATION: Title: Payer's Request for Identifying Number.

OMB Control Number: 0560-0121.

Expiration Date: October 31, 2000.

Type of Request: Reinstatement and revision of a previously approved information collection.

Abstract: In order to provide the Internal Revenue Service with proper identification for the processing of tax returns, all producers who receive CCC and FSA program payments must provide FSA with a social security, employer, or IRS identifying number. Form CCC-343, Payer's Request for Identifying Number, will collect this information without regard to whether the payee is required to file a tax return or is covered by social security.

The county FSA office prepares a CCC-343 for each producer who has not furnished a producer ID number. Once the ID number is obtained and provided to the county FSA office, the producer is not requested to provide this information again.

FSA does not make any program payment until a producer furnishes a social security, employer, or IRS identifying number.

Identification of producers allows FSA to provide IRS with identifying numbers for tax collection purposes. Section 6676 of the Internal Revenue Code provides a penalty for failure to furnish an identifying number to a payer required to report such number to the Service.

Estimate of Burden: Public reporting burden for this collection of information is estimated to average .08 (5 minutes) per response.

Respondents: Producers.

Estimated Number of Respondents: 3,000.

Estimated Number of Responses per Respondent: One.

Estimated Total Annual Burden on Respondents: 250 hours.

Proposed topics for comment include: (a) Whether the collection of information is necessary for the proper performance of the functions of the agency, including whether the information will have practical utility; (b) the accuracy of the Agency's estimate of burden including the validity of the methodology and assumptions used; (c) ways to enhance the quality, utility and clarity of the information collected; or (d) ways to minimize the burden of the collection of the information on those who are to respond, including through the use of appropriate automated, electronic, mechanical, or other technological collection techniques or other forms of information technology. Comments should be sent to the Desk Officer for Agriculture, Office of Information and Regulatory Affairs, Office of Management and Budget, Washington, DC 20503 and to David Tidwell, Agricultural Program Specialist, Production, Emergencies, and Compliance Division, USDA, FSA, STOP 0517, 1400 Independence Avenue, SW., Washington, DC 20250-2415, (202) 720-4542.

Copies of the information collection may be obtained from David Tidwell at the above address.

Signed at Washington, DC, on December 5, 2000.
Keith Kelly,
Executive Vice President, Commodity Credit Corporation.

[FR Doc. 00-31623 Filed 12-11-00; 8:45 am]

BILLING CODE 3410-05-P